DEPARTMENT OF COMMERCE

Bureau of the Census

National Advisory Committee

AGENCY: Bureau of the Census, Department of Commerce.

ACTION: Notice of Public Virtual Meeting; correction.

SUMMARY: The Bureau of the Census (Census Bureau) is issuing this notice to correct the Census Bureau Web site address that identifies how to access the teleconference meeting via WebEx. The Census Bureau originally published in the Federal Register on Friday, April 8, 2016 (81 FR 20617), a Notice of Public Virtual Meeting for the National Advisory Committee. This notice corrects the Census Bureau WebEx teleconference URL link. The next to last sentence in the ADDRESSES section now reads: “The meeting will be available via WebEx, please use the following URL link: https://census.webex.com/mw0401lsp13/mywebex/default.do?service=1&siteurl=census&nomenu=true&main_url=%2Fmc0901lsp13%2Fe.do%3Fsiteurl%3Dcensus%26AT%3DMI%26EventID%3D424606577%26UID%3D2991726397%26Host%3DQUhTSwAAAAIyQSQiyawT_DJbOTsUe68M-jWVHAe0Ru7RWgg7cubgEHSWvbjgXWgLvItWgQm2Cxyfl2o-icLRBmNBhEFs_QRx0%26FrameSet%3D2%26MTID%3Dm7d3200255f93f2afdcb115cd1b80bc0c.

The last sentence in the ADDRESSES section is unchanged and continues to read as: “The meeting number is 744882915.” There were no other changes to the notice.

FOR FURTHER INFORMATION CONTACT: Tara Dunlop, Advisory Committee Branch Chief, Customer Liaison and Marketing Services Office, tara.t.dunlop@census.gov, Department of Commerce, U.S. Census Bureau, Room 8H177, 4600 Silver Hill Road, Washington, DC 20233, telephone 301-763-5222. For TTY callers, please use the Federal Relay Service 1-800-877-8339.

Dated: April 12, 2016.
John H. Thompson,
Director, Bureau of the Census.

[FR Doc. 2016-08730 Filed 4-14-16; 8:45 am]

BILLING CODE 3510-07-P